DEPARTMENT OF AGRICULTURE

Forest Service

36 CFR Chapter II

Negotiated Rulemaking Advisory Committee; Fixed Anchors in Wilderness

AGENCY: Forest Service, USDA.

ACTION: Negotiated rulemaking; public meetings.

SUMMARY: The Secretary of Agriculture has established a negotiated rulemaking committee to develop recommendations for a proposed rule for the placement, use, and removal of fixed anchors used for recreational rock climbing purposes in congressionally designated wilderness areas administered by the Forest Service. This committee, called the Fixed Anchors in Wilderness Negotiated Rulemaking Advisory Committee, is made up of individuals representing a cross section of interests with a definable stake in the outcome of the proposed rule. The Committee has been established in accordance with the provisions of the Federal Advisory Committee Act and will be engaged in the process of negotiated rulemaking pursuant to the provisions of the Negotiated Rulemaking Act.

DATES: The first two meetings of the advisory committee will be held in Golden, Colorado on June 27-28 and July 19-20. The meetings are scheduled from 10 a.m. to 5:30 p.m. on the first day and from 8:30 a.m. to 3:00 p.m. on the second day of each session.

ADDRESSES: The advisory committee meetings will be held at the Rocky Mountain Regional Office, Forest Service, 740 Simms Street, Golden, Colorado.

FOR FURTHER INFORMATION CONTACT: Jerry Stokes, Recreation, Heritage, and Wilderness Resources, (202) 205-0956.

SUPPLEMENTARY INFORMATION:

Background

On October 29, 1999, the Secretary of Agriculture published in the Federal Register a notice of intent (64 FR 58368) to establish a negotiated rulemaking advisory committee to assist in the development of a proposed rule regarding the placement, use, and removal of fixed anchors in congressionally designated wilderness areas administered by the Forest Service. The Secretary received over 1,300 responses on the notice of intent. All of the comments are available for public inspection at the Forest Service's national office in Washington, DC. Arrangements to view the comments may be made by contacting the person listed under FOR FURTHER INFORMATION CONTACT.

The Secretary has determined to proceed with resolving the issue on the placement, use and removal of fixed anchors in the wilderness areas on National Forest System lands through the negotiated rulemaking process pursuant to the Negotiated Rulemaking Act, 5 U.S.C. 561 et seq. An advisory committee has been established which consists of an agency representative and other parties representing a broad cross section of the interests significantly affected by the rulemaking. Through a series of meetings, the members of the advisory committee are expected to negotiate in good faith to reach a consensus on recommendations for a proposed rule.

The Committee's meetings will serve as a forum in which the committee members can discuss issues involved in regulating the use of fixed anchors for recreational climbing purposes in wilderness areas administered by the Forest Service. This process is expected to enable the agency to develop and promulgate effective regulations governing the use of these devices within wilderness areas on National Forest System lands.

The meetings of the Committee will be open to the public so that individuals who are not part of the Committee may attend and observe. Any person attending the Committee meetings may address the Committee, if time permits, and may file written statements with the Committee.

Consistent with FACA requirements, the facilitator must prepare summaries of each Committee meeting. These summaries and all documents submitted to the Committee must be placed in the rulemaking docket, which is available for public inspection through the contact person named in this notice.

Committee Membership

The members of the committee, and their affiliation, if any, are listed as follows: Lloyd Athearn, American Alpine Club, Golden, CO; Kathleen Beamer, Recreation Equipment Incorporated, Seattle, WA; Frank Buono, retired National Park Service Assistant Superintendent, Prineville, OR; David Custer, recreational rock climber, Cambridge, MA; Sam Davidson, The Access Fund, Salinas, CA; Larry Gadt, Forest Service, Washington, DC; Brian Huse, National Parks and Conservation Association, Oakland, CA; Stefan Jackson, National Outdoor Leadership School, Bridgton, ME; Myrna Johnson, Outdoor Recreation Coalition of America, Boulder, CO; Jon Krakauer, author/mountain climber, Boulder, CO; Craig Mackey, Outward Bound, Golden, CO; John McCarthy, Idaho Conservation League, Boise, ID; William Maher Jr., recreational climber, Alexandria, VA; Patrick Mullaney, The Mountaineers, Seattle, WA; Douglas Medville, National Speological Society, VA; George Nickas, Wilderness Watch, Missoula, MT; Phil Powers, The American Mountain Guide Association, Lander, Wy; Kevin Proescholdt, Friends of the Boundary Waters Wilderness, Minneapolis, MN; Scott Silver, Wild Wilderness, Bend, OR; Jay Watson, The Wilderness Society, San Francisco, CA; Jeff Widen, The Sierra Club, Durango, CO; Rick Wilcox, Mountain Rescue Service, Eaton, NH; and Steve Wolper, recreational rock climber, Ketchum, ID.

Dated: May 31, 2000.
Hilda Diaz-Soltero,
Associate Chief for Natural Resources.

[FR Doc. 00-14309 Filed 6-7-00; 8:45 am]

BILLING CODE 3410-11-M